NUCLEAR REGULATORY COMMISSION

Relocation of the Nuclear Regulatory Commission's Public Document Room

AGENCY: Nuclear Regulatory Commission.

ACTION: Relocation of the Nuclear Regulatory Commission's Public Document Room.

SUMMARY: The Nuclear Regulatory Commission (NRC) is relocating its Public Document Room (PDR) to the NRC's headquarters building, One White Flint North, located at 11555 Rockville Pike (first floor), Rockville, Maryland.

DATES: The move will be completed on September 26, 2000.

FOR FURTHER INFORMATION CONTACT: Thomas Smith, Office of the Chief Information Officer, Nuclear Regulatory Commission, telephone 301-415-7204, e-mail tes@nrc.gov.

SUPPLEMENTARY INFORMATION: The PDR will be closed on Friday and Monday, September 22 and 25, 2000, and will reopen on Tuesday, September 26, 2000. Please check the PDR's Web page at <http://www.nrc.gov/NRC/PDR/pdr1.htm> for the status of the move.

During the move, the public may access the ADAMS Public Electronic Reading Room at Web address <http://www.nrc.gov/NRC/ADAMS/index.html>. If there are any special projects that must be accomplished between September 22 and 25, 2000, contact the PDR staff before the move, at 202-634-3273 or 1-800-397-4209. Every effort will be made to accommodate these requests and minimize this temporary inconvenience.

Access to the Bibliographic Retrieval System (BRS) will be unavailable from September 21-25, 2000, and reference services, including document reproduction, will be suspended from September 22-25, 2000. After the PDR reopens, the normal level of service for document reproduction may be temporarily affected while the reproduction contractor completes the backlog of requests received by the NRC during the move. Paper copies of records that were once in the downtown PDR have now been archived and will be available for recall one day after requested. Microfiche documents will be available for viewing and copying at the new PDR location. Recent NRC documents will be available electronically in ADAMS.

The mailing address will remain the same: U.S. Nuclear Regulatory Commission, Public Document Room, Washington, D.C. 20555-0001.

The PDR's service hours at the new location will remain the same:

Hours

7:45 a.m.-4:15 p.m.—Reading Room

8:30 a.m.-4:15 p.m.—Telephone Reference

Contact Numbers After The Move 1-800-397-4209 (toll free telephone)

301-415-4737 (local telephone number) (new)

301-415-3548 (fax number) (new)

1-800-270-2787 (BRS toll free number)

301-415-1841 (BRS local number) (new)

1-800-635-4512 (TDD toll free number)

E-Mail Address

pdr@nrc.gov (email)

Dated at Rockville, Maryland, this 5th day of September, 2000.
For the Nuclear Regulatory Commission.
Thomas E. Smith,
Acting Section Chief, Public Document Program Section.

[FR Doc. 00-23249 Filed 9-8-00; 8:45 am]

BILLING CODE 7590-01-P